SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: April 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR Part 806, Subpart E

1. HP Hood LLC—Arkport NY Plant, GF Certificate No. GF-202104162, Village of Arkport, Steuben County, N.Y.; Well 1 and consumptive use; Issue Date: April 12, 2021.

2. Village of Endicott—Public Water Supply System, GF Certificate No. GF-202104163, Village of Endicott, Broome County, N.Y.; Ranney Well, South 28 Well, and South 5 Well; Issue Date: April 14, 2021.

3. East Petersburg Borough—Public Water Supply System, GF Certificate No. GF-202104164, East Petersburg Borough, Lancaster County, Pa.; Vaughn Rd Well; Issue Date: April 14, 2021.

4. Allan Myers Materials PA, Inc.—Talmage Quarry, GF Certificate No. GF-202104165, Upper Leacock Township, Lancaster County, Pa.; consumptive use; Issue Date: April 23, 2021.

Dated: May 7, 2021.
Jason E. Oyler,
General Counsel and Secretary to the Commission.

[FR Doc. 2021-10031 Filed 5-11-21; 8:45 am]

BILLING CODE 7040-01-P